DEPARTMENT OF ENERGY

Federal Energy Regulatory Commission

[Docket No. CP06-94-000]

Southern Star Central Gas Pipeline, Inc.; Notice of Application

March 29, 2006.

Take notice that on March 22, 2006, Southern Star Central Gas Pipeline, Inc. (Southern Star), 4700 Highway 56, Owensboro, Kentucky 42301, filed in Docket No. CP06-94-000, an application pursuant to sections 7(b) and (c) of the Natural Gas Act (NGA) and Part 157 of the Commission's Regulations, for authorization to abandon and to construct and operate certain facilities, in order to provide an additional 24,562 Dth per day of incremental firm transportation service to Missouri Gas Energy (MGE) and Southern Missouri Gas (SMG) at total estimated cost is approximately $9.4 million, all as more fully set forth in the application which is on file with the Commission and open to public inspection. This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ ferc.gov, or call (866) 208-3676 (toll free). For TTY, call (202) 502-8659.

Specifically, Southern Star proposes: (1) To extend the existing Springfield Loop (Line HS) in Christian County, Missouri by installing and additional 0.9 mile of 20-inch pipeline; (2) to replace approximately one mile of existing 8-inch Ash Grove-Galloway pipeline (Line HQ-8) with a 1.1 mile extension of the Springfield 16-inch pipeline (Line HQ-16) in Greene County, Missouri; (3) to up-rate the maximum allowable operating pressure (MAOP) on 13.5 miles of the Southern Trunk Loop 20-inch pipeline (Line “FR”) located in Montgomery and Labette Counties, Kansas; (4) to make auxiliary installations and modifications at the Grabham and Saginaw Compressor Stations located in Montgomery County, Kansas and Newton County, Missouri, respectively; and (5) to replace, install or relocate various auxiliary facilities on the FR-20″, HS-20″ and HQ-16″ pipelines including valves, regulators, launchers, and receivers. In addition, one new delivery meter station is proposed off of Southern Star's Tartan 10-inch line (Line HQ-32) near Nixa, Missouri to provide deliveries to MGE. Any questions regarding this application should be directed to David N. Robert, Manager, Regulatory Affairs, at (270) 852-4654 or fax (270) 852-5010.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: 5 p.m. Eastern Time on April 19, 2006.

Magalie R. Salas,
Secretary.

[FR Doc. E6-4882 Filed 4-4-06; 8:45 am]

BILLING CODE 6717-01-P